DEPARTMENT OF COMMERCE

International Trade Administration

[C-570-134]

Certain Metal Lockers and Parts Thereof From the People's Republic of China: Final Results of Countervailing Duty Administrative Review; 2020-2021

AGENCY: Enforcement and Compliance, International Trade Administration, Department of Commerce.

SUMMARY: The U.S. Department of Commerce (Commerce) determines that countervailable subsidies were provided to producers and exporters of certain metal lockers and parts thereof (metal lockers) from the People's Republic of China (China). The period of review (POR) is December 14, 2020, through December 31, 2021.

DATES: Applicable February 14, 2024.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On September 7, 2023, Commerce published the Preliminary Results.¹ For a complete description of the events that occurred subsequent to the Preliminary Results, see the Issues and Decision Memorandum.² On December 18, 2023, in accordance with section 751(a)(3)(A) of the Tariff Act of 1930, as amended (the Act), Commerce extended the deadline for issuing the final results until February 6, 2024.³

¹ See Certain Metal Lockers and Parts Thereof from the People's Republic of China: Preliminary Results and Partial Rescission of the Countervailing Duty Administrative Review; 2020-2021, 88 FR 61514 (September 7, 2023) (Preliminary Results), and accompanying Preliminary Decision Memorandum.

² See Memorandum, “Issues and Decision Memorandum for the Final Results of Countervailing Duty Administrative Review: Certain Metal Lockers and Parts Thereof from the People's Republic of China; 2020-2021,” dated concurrently with, and hereby adopted by, this notice.

³ See Memorandum, “Extension of Deadline for Final Results of Countervailing Duty Administrative Review,” dated December 18, 2023.

Scope of the Order ⁴

⁴ See Certain Metal Lockers and Parts Thereof from the People's Republic of China: Antidumping and Countervailing Duty Orders, 86 FR 46826 (August 20, 2021) (Order).

The merchandise subject to the Order are metal lockers from China. A full description of the scope of the Order is contained in the Issues and Decision Memorandum.

Analysis of Comments Received

All issues raised by interested parties in case and rebuttal briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made certain changes to the countervailable subsidy rate calculations for mandatory respondents Xingyi Metalworking (Zhejiang) Co., Ltd. (Xingyi Metalworking) and Zhejiang Xingyi Metal Products Co., Ltd. (Zhejiang Xingyi). As a result of these changes, the final rates for the two companies under review which were not selected for individual examination also changed.⁵ These changes are explained in the Issues and Decision Memorandum.

⁵ The two companies not selected for individual examination are: Hangzhou Evernew Machinery & Equipment Company Limited, and Hangzhou Xline Machinery & Equipment Co. Ltd.

Methodology

Commerce is conducting this review in accordance with section 751(a)(1)(A) of the Act. For each of the subsidy programs found countervailable, we find that there is a subsidy, i.e., a government-provided financial contribution that gives rise to a benefit to the recipient, and that the subsidy is specific.⁶ The Issues and Decision Memorandum contains a full description of the methodology underlying Commerce's conclusions, including any determination that relied upon the use of adverse facts available pursuant to sections 776(a) and (b) of the Act.

⁶ See sections 771(5)(B) and (D) of the Act regarding financial contribution; section 771(5)(E) of the Act regarding benefit; and section 771(5A) of the Act regarding specificity.

Companies Not Selected for Individual Examination

The statute and Commerce's regulations do not address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies which were not selected for individual examination in an administrative review. Under section 705(c)(5)(A) of the Act, the all-others rate is normally an amount equal to the weighted average of the countervailable subsidy rates established for exporters and producers individually investigated, excluding any zero or de minimis countervailable subsidy rates, and any rates determined entirely on the basis of facts available.

As stated above, there are two companies for which a review was requested and not rescinded, and which were not selected as mandatory respondents or found to be cross-owned with the mandatory respondents. Because the rate calculated for the mandatory respondents in this review, Xingyi Metalworking and Zhejiang Xingyi, is above de minimis and not based entirely on facts available, we are applying Xingyi Metalworking and Zhejiang Xingyi's subsidy rate to these non-selected companies. This methodology used to establish the rate for the non- selected companies is consistent with our practice regarding the calculation of the all-others rate, pursuant to section 705(c)(5)(A)(i) of the Act.

This is the same methodology Commerce applied in the Preliminary Results for determining a rate for companies not selected for individual examination. However, due to changes in the calculations for Xingyi Metalworking and Zhejiang Xingyi, we revised the non-selected rate accordingly. Consequently, for the two companies not selected for individual examination and for which the review was not rescinded, we are applying an ad valorem subsidy rate of 16.61 percent for 2020 and 22.72 percent for 2021.

Final Results of Review

We determine the following net countervailable subsidy rates exist for the period December 14, 2020, through December 31, 2021:

Producer/exporter | 2020 subsidy rate (percent) | 2021 subsidy rate (percent)
Xingyi Metalworking Technology (Zhejiang) Co., Ltd.; Zhejiang Xingyi Metal Products Co., Ltd | 16.61 | 22.72
Hangzhou Evernew Machinery & Equipment Company Limited | 16.61 | 22.72
Hangzhou Xline Machinery & Equipment Co. Ltd | 16.61 | 22.72

Disclosure

Commerce intends to disclose its calculations and analysis performed for these final results to interested parties within five days of this notice in the Federal Register in accordance with 19 CFR 351.224(b).

Assessment Requirements

In accordance with section 751(a)(2)(C) of the Act and 19 CFR 351.212(b)(2), Commerce has determined, and U.S. Customs and Border Protection (CBP) shall assess, countervailing duties on all appropriate entries covered by this review, for the above-listed companies at the applicable ad valorem assessment rates listed for the corresponding time periods (i.e., December 14, 2020, to December 31, 2020, and January 1, 2021, to December 31, 2021). Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts calculated for the year 2021 for the above-listed companies with regard to shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, effective upon publication of these final results, shall remain in effect until further notice.

Administrative Protective Order

This notice also serves as a final reminder to parties subject to an administrative protective order (APO) of their responsibility concerning the disposition of proprietary information disclosed under APO in accordance with 19 CFR 351.305(a)(3), which continues to govern business proprietary information in this segment of the proceeding. Timely written notification of the return or destruction of APO materials or conversion to judicial protective order, is hereby requested. Failure to comply with the regulations and terms of an APO is a sanctionable violation.

Notification to Interested Parties

These final results are issued and published in accordance with sections 751(a)(1) and 777(i)(1) of the Act, and 19 CFR 351.221(b)(5).

Dated: February 6, 2024.
Ryan Majerus,
Deputy Assistant Secretary for Policy and Negotiations, Performing the Non-exclusive Functions and Duties of the Assistant Secretary for Enforcement and Compliance.

Appendix

List of Topics Discussed in the Issues and Decision Memorandum

I. Summary

II. Background

III. Scope of the Order

IV. Non-Selected Companies Under Review

V. Subsidies Valuation

VI. Use of Facts Otherwise Available and Application of Adverse Inferences

VII. Analysis of Programs

VIII. Discussion of the Issues

Comment 1: Valuation of Respondents' Inland Freight Expenses

Comment 2: Export Buyer's Credit Program

Comment 3: Whether Commerce Should Modify Less Than Adequate Remuneration (LTAR) Benchmarks

IX. Recommendation

[FR Doc. 2024-03074 Filed 2-13-24; 8:45 am]

BILLING CODE 3510-DS-P